DEPARTMENT OF HEALTH AND HUMAN SERVICES

Indian Health Service

Indians Into Medicine Program

AGENCY: Indian Health Service, HHS.

ACTION: Extension of deadlines and change in funds availability for competitive grant applications for the Indians Into Medicine Program.

The Notice of funding availability for competitive grants for the Indians Into Medicine Program was published at 66 FR 27665 on May 18, 2001, and corrected at 66 FR 30219 on June 5, 2001.

The Indian Health Service announces the extension of dates for the following:

1. Application Receipt Date: August 1, 2001.

2. Application Review: August 13, 2001.

3. Applicants Notified of Results (approved, approved unfunded, or disapproved): August 27, 2001.

It is anticipated that approximately $220,100 will be available for one award. This is a change from the $400,000 previously announced and published on May 18, 2001. The available funding level of $220,100 is inclusive of both direct and indirect costs.

Applicants are notified in writing on or about August 27, 2001.

This extension provides applicants approximately five additional weeks to prepare and submit competitive applications.

All other information contained in the Federal Register announcements remains unchanged.

Dated: July 16, 2001.
Michel E. Lincoln,
Deputy Director.

[FR Doc. 01-18290 Filed 7-20-01; 8:45 am]

BILLING CODE 4160-16-M